DEPARTMENT OF COMMERCE

National Oceanic and Atmospheric Administration

RIN 0648-XH002

Schedules for Atlantic Shark Identification Workshops and Safe Handling, Release, and Identification Workshops; Correction

AGENCY: National Marine Fisheries Service (NMFS), National Oceanic and Atmospheric Administration (NOAA), Commerce.

ACTION: Notice of public workshops; correction.

SUMMARY: NMFS announces that the date for the Safe Handling, Release, and Identification workshop originally scheduled for September 4, 2019, in Warwick, RI, has been changed to September 23, 2019. The date is being changed because inclement weather resulting from Hurricane Dorian prevented the instructors from traveling safely to the original workshop. The workshop time and location remains unchanged: 9 a.m. to 5 p.m. in Warwick, RI. The remaining September 2019, workshop in Panama City, FL, also remains unchanged. Safe Handling, Release, and Identification workshop are mandatory for shark and swordfish limited-access permit holders who fish with longline or gillnet gear. Additional free workshops will be conducted during 2019.

DATES: The date for the Safe Handling, Release, and Identification workshop to be held in Warwick, RI, is changed to September 23, 2019. See SUPPLEMENTARY INFORMATION for further details.

ADDRESSES: The address for the Safe Handling, Release, and Identification workshop to be held in Warwick, RI, remains at the Hilton Garden Inn, 1 Thurber Street, Warwick, RI 02886. See SUPPLEMENTARY INFORMATION for further details.

FOR FURTHER INFORMATION CONTACT: Rick Pearson by phone: (727) 824-5399.

SUPPLEMENTARY INFORMATION: The workshop schedules, registration information, and a list of frequently asked questions regarding these workshops are posted on the internet at: https://www.fisheries.noaa.gov/atlantic-highly-migratory-species/safe-handling-release-and-identification-workshops.

Correction

In the Federal Register (Doc. 2019-12407) of June 12, 2019, on page 27288, in the first column, correct the date of the fifth Safe Handling, Release, and Identification workshop listed under the heading Workshop Dates, Times, and Locations to read:

“5. September 23, 2019, 9 a.m.-5 p.m., Hilton Garden Inn, 1 Thurber Street, Warwick, RI 02886.”

Authority: 16 U.S.C. 1801 et seq.

Dated: September 11, 2019.
Jennifer M. Wallace,
Acting Director, Office of Sustainable Fisheries, National Marine Fisheries Service.

[FR Doc. 2019-19931 Filed 9-13-19; 8:45 am]

BILLING CODE 3510-22-P